DEPARTMENT OF ENERGY

Federal Energy Regulatory Commission

18 CFR Part 35

[Docket No. RM15-23-000]

Collection of Connected Entity Data from Regional Transmission Organizations and Independent System Operators

AGENCY: Federal Energy Regulatory Commission. DOE.

ACTION: Order Granting Motion for Technical Conference and Request to Postpone Comment Deadline.

SUMMARY: In this order, the Federal Energy Regulatory Commission (Commission) grants a motion for a technical conference and request to postpone comment deadline that was filed in response to the Notice of Proposed Rulemaking for the Collection of Connected Entity Data from Regional Transmission Organizations and Independent System Operators (NOPR) that Commission issued on September 17, 2015.¹ The Commission directs staff to convene a technical conference on December 8, 2015 and postpones the due date for comments on the NOPR until January 22, 2016, 45 days after the technical conference.

¹ Collection of Connected Entity Data from Regional Transmission Organizations and Independent System Operators, 152 FERC ¶ 61,219 (2015).

DATES: The technical conference will be held on December 8, 2015 and NOPR comments will be due January 22, 2016.

FOR FURTHER INFORMATION CONTACT:

David Pierce (Technical Information), Office of Enforcement, Federal Energy Regulatory Commission, 888 First Street NE., Washington, DC 20426, (202) 502-6454 david.pierce@ferc.gov.

Kathryn Kuhlen (Legal Information), Office of Enforcement, Federal Energy Regulatory Commission, 888 First Street NE., Washington, DC 20426, (202) 502-6855 kathryn.kuhlen@ferc.gov.

SUPPLEMENTARY INFORMATION:

Before Commissioners: Norman C. Bay, Chairman; Cheryl A. LaFleur, Tony Clark, and Colette D. Honorable.

Collection of Connected Entity Data from Regional Transmission Organizations and Independent System Operators

Docket No. RM15-23-000

Order Granting Motion for Technical Conference and Request To Postpone Comment Deadline

(Issued November 10, 2015)

1. On September 17, 2015, the Commission issued a Notice of Proposed Rulemaking (NOPR) to amend its regulations to require each regional transmission organization (RTO) and independent system operator (ISO) to electronically deliver to the Commission, on an ongoing basis, data required from its market participants that would (i) identify the market participants by means of a common alpha-numeric identifier; (ii) list their “Connected Entities,” which includes entities that have certain ownership, employment, debt, or contractual relationships to the market participants, as specified in the NOPR; and (iii) describe in brief the nature of the relationship of each Connected Entity. The NOPR states the information is being sought to assist the Commission in its screening and investigative efforts to detect market manipulation, an enforcement priority of the Commission. Comments on the proposed rule are due November 30, 2015, which is 60 days after publication in the Federal Register plus one day to accommodate the circumstance that the 60th day falls on a Sunday.

2. On October 28, 2015, a group of entities (the Moving Entities) filed a Motion for Technical Conference and Request to Postpone Comment Deadline.² The Motion asks that a technical conference be established and the comment deadline extended, or alternatively that if the technical conference request is denied, that the comment deadline be extended to January 29, 2016, which is two months beyond the current due date.

² Motion for Technical Conference and Request to Postpone Comment Deadline, Docket No. RM15-23-000 (Oct. 28, 2015) (Motion).

3. Filings in support of the Moving Entities' request were made by the Commercial Energy Working Group,³ a consortium of entities composed of Trade Groups,⁴ the American Gas Association,⁵ a group of independent generation owners and representatives,⁶ and the International Energy Credit Association.⁷

³ Comments of the Commercial Energy Working Group in Support of Motion for Technical Conference and Request to Postpone Comment Deadline, Docket No. RM15-23-000 (Oct. 29, 2015).

⁴ Answer of Trade Groups in Support of Motion for Technical Conference and Request to Postpone Comment Deadline, Docket No. RM15-23-000 (Oct. 30, 2015).

⁵ Comments of the American Gas Association in Support of Motion for Technical Conference and Request to Postpone Comment Deadline, Docket No. RM15-23-000 (Oct. 30, 2015).

⁶ Comments of Independent Generation Owners & Representatives in Support of Motion for Technical Conference and Request to Postpone Comment Deadline, Docket No. RM15-23-000 (Nov. 4, 2015).

⁷ Answer of International Energy Credit Association In Support Of Motion For Technical Conference and Request to Postpone Comment Deadline, Docket No. RM15-23-000 (Nov. 5, 2015).

4. The Motion acknowledges and supports the important goals underlying the NOPR,⁸ but asserts that a technical conference “would help the Commission carefully consider whether the reporting requirements—as currently drafted—will achieve the desired benefits commensurate with the burden that would be placed on [affected parties], or whether the reporting requirements could be drafted in a manner that eliminates some of the burden while preserving the Commission's goal of detecting market manipulation.” ⁹

⁸ Motion, p. 2

⁹ Id.

5. Upon careful consideration of this request, the Commission concurs that a technical conference would be useful in understanding industry concerns and the extent of the burdens that would be imposed upon market participants under the draft regulatory language. Therefore, the Commission will hold a staff-led technical conference on December 8, 2015, with comments due 45 days thereafter.¹⁰

¹⁰ A notice will be issued setting out the details of the technical conference, including the exact times and agenda.

The Commission Orders:

The Filing Entities' Motion for Technical Conference and Request to Postpone Comment Deadline is granted. The Commission directs staff to convene a technical conference on December 8, 2015. Comments will be due on January 22, 2016, 45 days after the technical conference.

By the Commission.
Issued: November 10, 2015.
Nathaniel J. Davis, Sr.,
Deputy Secretary.

[FR Doc. 2015-29268 Filed 11-16-15; 8:45 am]

BILLING CODE 6717-01-P